ADVISORY COUNCIL ON HISTORIC PRESERVATION

Request for Comments on Proposed Policy Statement on Archaeology and Heritage Tourism

AGENCY: Advisory Council on Historic Preservation.

ACTION: Notice of Intent To Adopt a Policy Statement on Archaeology and Heritage Tourism.

SUMMARY: In 2003 the Chairman of the Advisory Council on Historic Preservation (ACHP) appointed a Task Force on Archaeology to identify archaeological issues that merited the ACHP's attention. One issue identified was the need to better encourage responsible use of archaeological resources for public benefit, including education programs and heritage tourism. The Task Force has developed a draft policy statement, along with guidance, entitled “Using Archaeological Resources for Public Benefit, including Education and Heritage Tourism,” and now seeks public comments on it.

DATES: Submit comments on or before July 14, 2008.

ADDRESSES: Address all comments concerning this draft policy statement and guidance to Dr. Tom McCulloch, Office of Federal Agency Programs, Advisory Council on Historic Preservation, 1100 Pennsylvania Avenue, NW., Suite 803, Washington, DC 20004. Fax (202) 606-8647. You may submit electronic comments to: archaeology@achp.gov. Please note that all comments submitted to the ACHP will become part of the public record.

FOR FURTHER INFORMATION CONTACT: Dr. Tom McCulloch, (202) 606-8554, archaeology@achp.gov.

SUPPLEMENTARY INFORMATION: The Advisory Council on Historic Preservation (ACHP) is an independent federal agency that promotes the preservation, enhancement, and productive use of our nation's historic resources, and advises the President and Congress on national historic preservation policy.

The current draft policy statement and guidance is the product of a Task Force subcommittee that included ACHP members and their expert staff, Federal agency officials knowledgeable about historic preservation and tourism, the ACHP's tribal member, the ACHP's Native American Advisory Group, representatives of the National Conference of State Historic Preservation Officers, and the National Association of Tribal Historic Preservation Officers. Formal discussion sessions were held at the national meetings of the Society for Historical Archaeology in Williamsburg, Virginia, and the Society for American Archaeology in Austin, Texas. The subcommittee determined that a policy statement with some accompanying guidance was the appropriate vehicle to promulgate the ACHP's position on the need for a more prominent role for archaeology in heritage tourism and education. The Subcommittee met four times to develop an initial draft of these documents, which were then presented to the full Archaeology Task Force where they were refined into the present document.

At its most recent meeting on April 18, 2008, the Task Force members agreed to place before the full ACHP membership this latest draft of the policy for their review and comment. A full copy of the draft can be found at the end of this notice. The ACHP membership also agreed with the Task Force's plans to circulate the draft policy and guidance for public comment in this Federal Register notice, and post it on the ACHP's Web site. After review of comments received, the Chair of the Task Force plans to bring the policy and guidance before the full ACHP membership for adoption at its August 15, 2008 quarterly meeting.

Several particular issues were explored in developing this statement and guidance, that we would specifically appreciate comments on, including:

(1) Use of the policy statement. The policy is intended to help ACHP staff, federal agencies, State and Tribal Historic Preservation Officers, local communities with archaeological assets (like Preserve America and Main Street communities), tourism industry professionals, and others when determining whether and how to use archaeology to help instill a greater appreciation and understanding of the American past, and when making decisions about incorporating archaeology and archaeological resources into heritage tourism projects and programs.

(2) Balancing use of archaeological properties in tourism and education with privacy concerns. This issue is addressed in Principle 2 of the draft policy statement. Guidance for this principle says that many archaeological sites are valued by cultural and lineal descendants for religious or cultural reasons and would prefer not to open them to the general public. The guidance goes on to say that religious or cultural values associated with the archaeological resources should be considered in making decisions about appropriate public visitation.

(3) Consultation with others in making use decisions. Decisions about appropriate use should be made in consultation with those who ascribe such significance to the archaeological resources, in addition to those with an interest in public education, heritage tourism, and resource conservation.

(4) Management and sustainability needs. Use of archaeological resources in heritage tourism and education requires adequate personnel and financial resources for success. Guidance for this principle focuses on the need to consider a wide range of issues that include resource protection, access, current and long-term threats, and the requirement for site maintenance and sustainability.

Text of the Draft Policy Statement and Guidance

The following is the text of the draft policy statement and guidance:

ACHP Policy Statement: Using Archaeological Resources for Public Benefit, Including Education and Heritage Tourism

Introduction

The National Historic Preservation Act of 1966 (NHPA) aims among other things “to insure future generations a genuine opportunity to appreciate and enjoy the rich heritage of our Nation.” 16 U.S.C. 470(b)(5). The NHPA goes on to state that “it shall be the policy of the Federal Government, in cooperation with other nations and in partnership with the States, local governments, Indian tribes, and private organizations and individuals to—(1) use measures, including financial and technical assistance, to foster conditions under which our modern society and our prehistoric and historic resources can exist in productive harmony and fulfill the social, economic, and other requirements of present and future generations.” 16 U.S.C. 470-1.

Executive Order 13287, “Preserve America,” signed by President George W. Bush on March 3, 2003, builds on this mandate, stating that “it is the policy of the Federal Government to provide leadership in preserving America's heritage by actively advancing the protection, enhancement, and contemporary use of the historic properties owned by the Federal Government, and by promoting intergovernmental cooperation and partnerships for the preservation and use of historic properties.” Executive Order 13287 recognizes the importance of preserving “the unique cultural heritage of communities and of the Nation, and to realize the economic benefit that these properties can provide.”

Archaeological Resources and Historic Properties

“Archaeological resources” include archaeological properties (sites), material collections derived from field investigation and study of those sites, and related records and syntheses of those studies. “Archaeological properties” are defined by the National Park Service as “the place or places where the remnants of a past culture survive in a physical context that allows for the interpretation of these remains.” Archaeological properties may also be “historic properties,” that is, properties listed, or eligible for listing, in the National Register of Historic Places.

Archaeological resources have significant value and benefits as heritage assets, and can contribute to public understanding and appreciation of the past through heritage education programs and heritage tourism initiatives at a local, statewide, or regional level. As demonstrated in a public opinion poll conducted in 2000 by Harris Interactive for the Society for American Archaeology, archaeological resources and the archaeological research process hold particular fascination and interest for many members of the public. The Harris Poll found that most Americans “support the goals and practice of archaeology, endorse laws protecting archaeological sites and artifacts, and think archaeology is important to today's society.” Many of these same individuals are likely to be active heritage tourists.

Heritage Tourism and Archaeology

Heritage tourism is defined in Executive Order 13287 as “the business and practice of attracting and accommodating visitors to a place or area based especially on the unique or special aspects of that locale's history, landscape, and culture.” The National Trust for Historic Preservation further defines cultural heritage tourism as “travel to experience the places and activities that authentically represent the stories and people of the past and present” (Getting Started: How to Succeed in Heritage Tourism, National Trust for Historic Preservation, 1993).

The practice of archaeology, public appreciation of the stories about the past to which archaeology can contribute, and public access to interpreted sites and archaeological collections have long been recognized internationally as subjects worthy of tourism development. A number of popular tourism destinations in the United States, such as Mesa Verde National Park or Jamestown Island, incorporate archaeological resources. At other locations, engaging visitors to actively participate in archaeological field work under controlled and limited conditions may also be appropriate. Such “participatory archaeology” can offer an excellent opportunity for educating a segment of the public about archaeology and resource stewardship.

At the same time, it is also clear that legitimate issues arise about tourism development and the visitor experience and their potential impact on the archaeological record. Such issues may include the adequacy of resource conservation, sustainability, and management; the appropriateness of public access and associated site improvements at a particular location; the cultural sensitivity of some remains as well as their interpretation; and the economic viability of open sites and necessary visitor facilities. Careful consideration of these issues may conclude that it is appropriate to use archaeological collections and results of archaeological research in heritage tourism, but not the actual, physical, “site.” In such cases, other means of interpreting and presenting the results of archaeological study should be considered, including electronic “virtual” tours, exhibits, film, offsite interpretation, and other methods.

Management and economic issues also need to be assessed in reaching decisions about the viability and sustainability of archaeological heritage tourism. Just because an archaeological site is opened and presented to the public does not mean it will be visited or appreciated. A sound and realistic business plan is necessary. Issues to consider here include the potential market and audience for this form of tourism; whether site development is an appropriate use of the resources; the impact of a site's location and ownership on public access; immediate and long-term financial and management needs; and the ability and willingness of responsible parties to prepare and implement necessary development, interpretive, and public use plans.

Principles

The following principles and accompanying guidance have been adopted by the Advisory Council on Historic Preservation (ACHP) to assist ACHP staff, federal agency decision-makers, and other parties when determining whether and how to use archaeology to help instill a greater appreciation and understanding of the American past, and when making decisions about incorporating archaeology and archaeological resources into heritage tourism projects and programs.

These principles and guidance will also be useful for State and Tribal Historic Preservation Officers, local communities with archaeological assets (such as Preserve America and Main Street communities), tourism industry professionals, and businesses and not-for-profit organizations involved in heritage development projects.

—The public interest in archaeological resources and their interpretation makes them an excellent focus for heritage tourism and related public education efforts.

—While some archaeological properties, or groups of properties in an area, may be appropriate for public education programs or heritage tourism development, others may not.

—Decisions about when, where, and how to interpret and present archaeological properties and resources to the public should be made in consultation with a broad range of parties with an interest in public education, heritage tourism, resource conservation, and the particular place that would be interpreted.

—Responsible public interpretation for education or tourism includes current scholarship. Facts and findings from the archaeological work should be integrated into the presented story to help bring the past and its investigation to life for the general public.

—Archaeological properties or resources that are made part of public education efforts and/or heritage tourism projects are supportable and sustainable through professional, adequately funded, and well-developed and executed management programs.

Guidance

—The public interest in archaeological resources and their interpretation makes them an excellent focus for heritage tourism and related public education efforts.

The Society for American Archaeology's public opinion poll has demonstrated the strong public interest in and appreciation for archaeological knowledge, archaeological properties and the materials they contain, and the archaeological discovery process.

There is often even greater interest in the stories and methods of interpretation about people, places, and events of the past that are reconstructed as a result of archaeological research and interpretation.

The science of archaeology can foster a greater understanding of and appreciation for peoples and cultures of the past as well as the traditions, events and places valued by living peoples today.

Tourism and public education programs can assist in mutual understanding and respect between peoples and societies, and between the present and the past.

—While some archaeological properties, or groups of properties in an area, may be appropriate for public education programs or heritage tourism development, others may not.

In making decisions about whether a given archaeological resource's preservation and use is the best way to tell this story to the public, the physical manifestations of the archaeological resources, and how their physical features lend themselves to being viewed and understood by members of the public, needs to be carefully considered.

Ascribed values associated with the archaeological resources, including their value to cultural and lineal descendants as well as particular segments of the interested public, may either support or be in conflict with public access. The pros and cons of public uses need to be considered in this light.

Archaeological properties and related collections are fragile and non-renewable; many are valued by cultural and lineal descendants of the site's creators for religious or cultural reasons, and would prefer not to open them up to the general public. Some resources may be physically inaccessible to the public, such as those located on a military reservation or tribal lands. If present, and when properly studied, archaeological elements of a standing historic property or the location of a past historic event can add considerably to the interpretation and appreciation of the property.

Among other factors, the presence or absence of fragile or culturally sensitive remains, as well as the ability to manage visitation, should be taken into account in reaching decisions about appropriate uses for public education or tourism.

Where public access is inappropriate or difficult, or cannot be effectively managed, alternative means of presenting archaeological properties and information to the public may be desirable. Such alternatives may include offsite interpretation and exhibits, “virtual” tours, and other methods.

—Decisions about when, where, and how to interpret and present archaeological properties and resources to the public should be made in consultation with a broad range of parties with an interest in public education, heritage tourism, resource conservation, and the particular place that would be interpreted.

Decisions should be based on a broad understanding of historical and cultural context. This should include the rarity, state of preservation, and current state of knowledge about the resources.

It also should include knowledge of the values placed on the resources by living groups, and any associated concerns about privacy, preservation, interpretability, and appropriate uses of the resources.

Any ascribed religious or cultural values associated with the archaeological resources should be fully and carefully considered in making decisions about appropriate public visitation. Whether or how such associated values are interpreted and presented to the broader public should be determined in consultation with those who ascribe such significance to the archaeological resources.

There should be an appropriate consideration of protection and access. Such consideration should include a weighing of current or anticipated long-term threats, and adequate provision for the maintenance and sustainability of any archaeological resources that are used for tourism or other educational purposes.

—Responsible public interpretation for education or tourism includes current scholarship. Facts and findings from the archaeological work should be integrated into the presented story to help bring the past and investigation to life for the general public.

Scholarship includes sufficient and accurate professional research as well as other sources of knowledge, such as relevant oral histories and traditional knowledge, necessary to support responsible archaeological heritage tourism. The ability of a vocational archaeologist to contribute to this endeavor should not be overlooked.

There needs to be reliable and accurate information about the resources in order to present the relevant facts and tell a compelling story.

Archaeological properties as interpreted today are the end results of physical and cultural processes in operation over long periods of time. Heritage tourists will benefit from an understanding of the process of creation, discovery, and interpretation.

Public interpretation for heritage tourism should be germane to the particular archaeological resource as well as broader educational goals. Information should illuminate not only the specific archaeological site and its remains but also past lifeways, cultural practices, and development patterns that they illustrate.

Archaeological properties used for heritage tourism should also, as practicable, provide a context that helps visitors appreciate a site's value to any cultural and lineal descendants living today.

—Archaeological properties or resources that are made part of public education efforts and/or heritage tourism projects are supportable and sustainable through professional, adequately funded, and well-developed and executed management programs.

A broad range of governmental and non-governmental organizations can and should participate in decisions about the uses of archaeological resources for public education and heritage tourism purposes, to ensure these projects combine excellent scholarship, responsible stewardship, and sustainable development and management.

Governmental entities, non-governmental organizations, private non-profit, and business enterprises that control archaeological resources should look for ways to include archaeological interpretation and public access where appropriate as part of mitigation programs (such as those negotiated through Section 106 of the National Historic Preservation Act).

In some cases, publicly owned archaeological properties and remains may best be protected and managed through public interpretation and controlled public access. Archaeological properties with active non-managed visitation that are receiving unmitigated impacts because of that visitation should be considered for more formal public interpretation and/or control of public access.

With adequate professional supervision and support, members of the public, non-professional volunteers, and cultural and lineal descendants can all play a significant role in “participatory archaeology” at certain sites. Such programs may be an appropriate use of archaeological resources for heritage tourism and education. Both the appropriateness of excavation in the first place, as well as future stewardship of the archaeological site and resulting collections, needs to be determined prior to it being excavated as a part of a heritage tourism or public education program.

Select references and resources on heritage tourism

(1) Government Sources

—NPS “Discover Archaeology,” “Visit Archaeology,” and “Archaeology in the Parks”; (http://www.nps.gov/archeology/PUBLIC/discover.htm); (http://www.nps.gov/history/archeology/visit/index.htm); (http://www.historians.org/perspectives/issues/2000/000l/000lpub1.cfm).

—USDA Forest Service “Passport in Time Program” and “Heritage Opportunity Spectrum for Tourism (HOST) Project”; (http://www.passportintime.com/); (http://www.fs.fed.us/recreation/programs/heritage/heritage_strategy.shtml).

—Bureau of Land Management “Adventures in the Past”; (http://www.blm.gov/heritage/adventures/).

—Preserve America; (http://www.preserveamerica.gov).

—Advisory Council on Historic Preservation “List of federal government programs that support heritage tourism”; (http://www.achp.gov/heritagetourism-assist.html); (http://www.grants.gov).

(2) State and Private Sources

—Arkansas Archaeological Survey “Archaeological Parks in the U. S.”; (http://www.uark.edu/misc/aras/).

—Society for American Archaeology “Archaeology for the Public” and SAA Archaeological Record, Special Issue on “Archaeology and Heritage Tourism” (vol. 5, no. 3, May 2005): (http://www.saa.org/Public/home/home.html); (http://www.saa.org/publications/theSAAarchRec/may05.pdf).

—Society for Historical Archaeology “Unlocking the Past” and “Exploring Historical Archaeology”: (http://www.sha.org/unlockingthepast/index.htm); (http://www.sha.org/EHA/splash.htm).

—National Trust for Historic Preservation “Cultural Heritage Tourism” and “Share Your Heritage”; (http://www.preservationnation.org/issues/heritage-tourism/); (http://www.culturalheritagetourism.org/resources/shareYourHeritage.htm).

—National Geographic Society “Geotourism Principles”; (http://www.nationalgeographic.com/travel/sustainable/aboutgeotourism.html).

—American Association of Museums;(http://www.aam-us.org/).

(3) International Organizations

—International Council on Monuments and Sites “Ename Charter for the Interpretation of Cultural Heritage Sites”; (http://www.enamecharter.org/).

—UNESCO: Cultural Tourism portal;(http://portal.unesco.org/culture/en/ev.php-URLID=11408&URLDO=DOTOPIC&URLSECTION=201.html).

Authority: 16 U.S.C. 470j.

Dated: June 4, 2008.
John N. Fowler,
Executive Director.

[FR Doc. E8-13004 Filed 6-11-08; 8:45 am]

BILLING CODE 4310-K6-M